DEPARTMENT OF COMMERCE

National Oceanic and Atmospheric Administration

[I.D. 041400B]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings of the Standing and Special Red Drum Scientific and Statistical Committee (SSC) and the Red Drum Advisory Panel (AP).

DATES: The Standing and Special Red Drum SSC will meet on Wednesday, May 3, 2000 beginning at 1 p.m. and will conclude by 12 noon on Thursday, May 4, 2000; the Red Drum AP will meet on Friday, May 5, 2000 from 8 a.m. until 3 p.m.

ADDRESSES: The SSC meeting will be held at the Tampa Airport Hilton Hotel, 2225 Lois Avenue, Tampa, FL 33607; telephone 813-877-6688. The AP meeting will be held at the New Orleans Airport Hilton, 901 Airline Drive, Kenner, LA 70062; telephone: 504-469-5000.

Council address: Gulf of Mexico Fishery Management Council, 3018 U.S. Highway 301 North, Suite 1000, Tampa, FL 33619.

FOR FURTHER INFORMATION CONTACT: Peter Hood, Fishery Biologist, Gulf of Mexico Fishery Management Council; telephone: 813-228-2815.

SUPPLEMENTARY INFORMATION: The SEC will convene to review the 1999/2000 red drum stock assessment. A Red Dum Stock Assessment Panel (SAP) member will present the assessment to the SSC related to setting an allowable biological catch (ABC) range in the Gulf of Mexico. The SSC may also review estimates of stock size (biomass at maximum sustainable yield [Bmsy]), minimum stock size thresholds (MSST), escapement rates of juveniles to offshore waters, and adult red drum bycatch in shrimp trawls. Based on this review, the SSC may recommend to the Council levels for total allowable catch (TAC), bag limits, size limits, commercial quotas, and other measures for the red drum fishery.

The AP will meet to review the 1999/2000 red drum stock assessment. A Red Drum SAP member will also present the assessment to the AP. The AP will also provide recommendations to the Council.

Based on recommendations from the above meetings, the Council, at its May meeting in New Orleans, LA will decide if changes are needed to current red drum management measures. Currently, it is illegal to harvest or possess red drum in Federal waters.

A copy of the agenda can be obtained by contacting the Gulf Council (see ADDRESSES).

Although other non-emergency issues not on the agenda may come before the Standing and Special Red Drum SSC and the Red Drum AP for discussion, in accordance with the Magnuson-Stevens Fishery Conservation and Management Act, those issues may not be the subject of formal action during these meetings. Actions of the Standing and Special Reef Fish SSC and the Red Drum AP will be restricted to those issues specifically identified in the agendas and any issues arising after publication of this notice that require emergency action under Section 305(c) of the Magnuson-Stevens Act, provided the public has been notified of the Council's intent to take action to address the emergency. Special Accommodations.

These meetings are physically accessible to people with disabilities. Requests for sign language interpretation or other auxiliary aids should be directed to Anne Alford at the Council (see ADDRESSES) by April 27, 2000.

Dated: April 7, 2000.
Gary C. Matlock,
Director, Office of Sustainable Fisheries, National Marine Fisheries Service.

[FR Doc. 00-9846 Filed 4-18-00; 8:45 am]

BILLING CODE 3510-22-M